DEPARTMENT OF HOMELAND SECURITY

Federal Emergency Management Agency

[Docket ID FEMA-2025-0002; Internal Agency Docket No. FEMA-B-2542]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Online location of letter of map revision | Date of modification | Community No.
Alabama:
Lee | City of Auburn (25-04-4206P). | The Honorable Ron Anders Jr., Mayor, City of Auburn, 144 Tichenor Avenue, Suite 1, Auburn, AL 36830. | City Hall, 144 Tichenor Avenue, Auburn, AL 36830. | https://msc.fema.gov/portal/advanceSearch. | Oct. 8, 2025 | 010144
Lee | Unincorporated areas of Lee County (25-04-4206P). | Jeff Colley, Chair, Lee County Board of Commissioners, P.O. Box 2266, Opelika, AL 36801. | Lee County Emergency Management Agency, 908 Avenue B, Opelika, AL 36801. | https://msc.fema.gov/portal/advanceSearch. | Oct. 8, 2025 | 010250
Madison | The City of Huntsville (24-04-5390P). | The Honorable Thomas Battle Jr., Mayor, City of Huntsville, P.O. Box 308, Huntsville, AL 35804. | City Hall, 308 Fountain Circle Southwest, 8th Floor, Huntsville, AL 35801. | https://msc.fema.gov/portal/advanceSearch. | Sep. 18, 2025 | 010153
Madison | Unincorporated areas of Madison County (24-04-5390P). | Mac McCutcheon, Chair, Madison County Board of Commissioners, 100 North Side Square, Suite 700, Huntsville, AL 35801. | Madison County Inspection Department, 266-C Shields Road, Huntsville, AL 35811. | https://msc.fema.gov/portal/advanceSearch. | Sep. 18, 2025 | 010151
Arizona: Pinal | City of Casa Grande (25-09-0247P). | The Honorable Lisa Navarro Fitzgibbons, Mayor, City of Casa Grande, 510 East Florence Boulevard, Casa Grande, AZ 85122. | City Hall, 510 East Florence Boulevard, Casa Grande, AZ 85122. | https://msc.fema.gov/portal/advanceSearch. | Sep. 12, 2025 | 040080
California:
Riverside | City of Jurupa Valley (23-09-1402P). | The Honorable Brian Berkson, Mayor, City of Jurupa Valley, 8930 Limonite Avenue, Jurupa Valley, CA 92509. | City Hall, 8930 Limonite Avenue, Jurupa Valley, CA 92509. | https://msc.fema.gov/portal/advanceSearch. | Sep. 9, 2025 | 060286
Riverside | City of Menifee (25-09-0210P). | Armando G. Villa, City Manager, City of Menifee, 29844 Haun Road, Menifee, CA 92586. | City Hall, 29844 Haun Road, Menifee, CA 92586. | https://msc.fema.gov/portal/advanceSearch. | Sep. 12, 2025 | 060176
Riverside | City of Temecula (24-09-0182P). | The Honorable Brenden Kalfus, Mayor, City of Temecula, 41000 Main Street, Temecula, CA 92590. | City Hall, Public Works Department, 41000 Main Street, Temecula, CA 92590. | https://msc.fema.gov/portal/advanceSearch. | Sep. 22, 2025 | 060742
San Diego | City of Vista (24-09-0198P). | The Honorable John Franklin, Mayor, City of Vista, 200 Civic Center Drive, Vista, CA 92084. | Civic Center, 200 Civic Center Drive, Vista, CA 92084. | https://msc.fema.gov/portal/advanceSearch. | Sep. 8, 2025 | 060297
Colorado:
Arapahoe | City of Aurora (24-08-0576P). | The Honorable Mike Coffman, Mayor, City of Aurora, 15151 East Alameda Parkway, Aurora, CO 80012. | Public Works Department, 15151 East Alameda Parkway, Suite 3200, Aurora, CO 80012. | https://msc.fema.gov/portal/advanceSearch. | Sep. 12, 2025 | 080002
Arapahoe | Unincorporated areas of Arapahoe County (24-08-0576P). | Leslie Summey, Chair, Arapahoe County Board of Commissioners, 5334 South Prince Street, Littleton, CO 80210. | Arapahoe County, Public Works and Development Department, 6924 South Lima Street, Centennial, CO 80112. | https://msc.fema.gov/portal/advanceSearch. | Sep. 12, 2025 | 080011
Gunnison | Unincorporated areas of Gunnison County (24-08-0251P). | Laura Puckett Daniels, Chair, Gunnison County Board of Commissioners, 200 East Virginia Avenue, Gunnison, CO 81230. | Gunnison County Administration Building, 200 East Virginia Avenue, Gunnison, CO 81230. | https://msc.fema.gov/portal/advanceSearch. | Sep. 12, 2025 | 080078
Pitkin | City of Aspen (24-08-0425P). | The Honorable Rachel Richards, Mayor, City of Aspen, 427 Rio Grande Place, Aspen, CO 81611. | Engineering Department, 427 Rio Grande Place, Aspen, CO 81611. | https://msc.fema.gov/portal/advanceSearch. | Sep. 23, 2025 | 080143
Connecticut: Hartford | Town of Manchester (24-01-0625P). | Steve Stephanou, Manager, Town of Manchester, 41 Center Street, Manchester, CT 06040. | Planning and Economic Development Department, 494 Main Street, Manchester, CT 06045. | https://msc.fema.gov/portal/advanceSearch. | Aug. 28, 2025 | 090031
Florida:
Clay | Unincorporated areas of Clay County (25-04-0748P). | Betsy Condon, Chair, Clay County Board of Commissioners, P.O. Box 1366, Green Cove Springs, FL 32043. | Clay County Administration Building, 477 Houston Street, Green Cove Springs, FL 32043. | https://msc.fema.gov/portal/advanceSearch. | Oct. 10, 2025 | 120064
Duval | City of Jacksonville (24-04-7837P). | The Honorable Donna Deegan, Mayor, City of Jacksonville, 117 West Duval Street, Suite 400, Jacksonville, FL 32202. | City Hall, 117 West Duval Street, Suite 400, Jacksonville, FL 32202. | https://msc.fema.gov/portal/advanceSearch. | Oct. 3, 2025 | 120077
Effingham | Unincorporated areas of Effingham County (24-04-3325P). | Tim Callanan, Manager, Effingham County, 804 South Laurel Street, Springfield, GA 31329. | Effingham County Administrative Complex, 804 South Laurel Street, Springfield, GA 31329. | https://msc.fema.gov/portal/advanceSearch. | Oct. 2, 2025 | 130076
Indian River | Unincorporated areas of Indian River County (25-04-0747P). | Joseph Flescher, Chair, Indian River County Board of Commissioners, 1801 27th Street, Vero Beach, FL 32960. | Indian River Administration Building, 1801 27th Street, Vero Beach, FL 32960. | https://msc.fema.gov/portal/advanceSearch. | Oct. 14, 2025 | 120119
Monroe | Unincorporated areas of Monroe County (25-04-3449P). | The Honorable Jim Scholl, Mayor, Monroe County Board of Commissioners, 530 Whitehead Street, Key West, FL 33040. | Monroe County Building Department, 2798 Overseas Highway, Suite 300, Marathon, FL 33050. | https://msc.fema.gov/portal/advanceSearch. | Oct. 10, 2025 | 125129
Orange | Unincorporated areas of Orange County (25-04-0014P). | The Honorable Jerry L. Demings, Mayor, Orange County, 201 South Rosalind Avenue, 5th Floor, Orlando, FL 32801. | Orange County Public Works Department, Stormwater Management Division, 4200 South John Young Parkway, Orlando, FL 32839. | https://msc.fema.gov/portal/advanceSearch. | Oct. 1, 2025 | 120179
Palm Beach | Unincorporated areas of Palm Beach County (24-04-7661P). | Verdenia C. Baker, Palm Beach County Administrator, 301 North Olive Avenue, Suite 1101, West Palm Beach, FL 33401. | Palm Beach County Vista Center, Building Division, 2300 North Jog Road, West Palm Beach, FL 33411. | https://msc.fema.gov/portal/advanceSearch. | Sep. 29, 2025 | 120192
St. Johns | Unincorporated areas of St. Johns County (24-04-7933P). | Junyao “Joy” Andrews, St. Johns County Administrator, 500 San Sebastian View, St. Augustine, FL 32084. | St. Johns County Administration Building, 500 San Sebastian View, St. Augustine, FL 32084. | https://msc.fema.gov/portal/advanceSearch. | Oct. 8, 2025 | 125147
Kentucky: Jefferson | Metropolitan Government of Louisville and Jefferson County (25-04-2107X). | The Honorable Craig Greenberg, Mayor, Metropolitan Government of Louisville and Jefferson County, 527 West Jefferson Street, Louisville, KY 40202. | Louisville/Jefferson County Metropolitan Sewer District, 700 West Liberty Street, Louisville, KY 40203. | https://msc.fema.gov/portal/advanceSearch. | Sep. 2 2025 | 210120
Idaho: Canyon | Unincorporated areas of Canyon County (24-10-0627P). | Brad Holton, Chair, Canyon County Board of County Commissioners, 1115 Albany Street, Room 101, Caldwell, ID 83605. | Canyon County Development Services Department, 111 North 11th Avenue Room 310, Caldwell, ID 83605. | https://msc.fema.gov/portal/advanceSearch. | Sep. 12, 2025 | 160208
Illinois:
Kendall | Unincorporated Areas of Kendall County (25-05-0705P). | Matt Kellogg, Chair, Kendall County Board, 807 West John Street, Yorkville, IL 60560. | Kendall County, Planning, Building and Zoning Department, 807 West John Street, Yorkville, IL 60560. | https://msc.fema.gov/portal/advanceSearch. | Sep. 19, 2025 | 170341
Kendall | Village of Oswego (25-05-0705P). | Ryan Kauffman, Village President, Village of Oswego, 100 Parkers Mill, Oswego, IL 60543. | Village Hall, 100 Parkers Mill, Oswego, IL 60543. | https://msc.fema.gov/portal/advanceSearch. | Sep. 19, 2025 | 170345
Louisiana: Lafayette | Town of Duson (24-06-2322P). | The Honorable Johnny Thibodeaux, Mayor, Town of Duson, 498 Toby Mouton Road, Duson, LA 70529. | Town Hall, 498 Toby Mouton Road, Duson, LA 70529. | https://msc.fema.gov/portal/advanceSearch. | Sep. 18, 2025 | 220104
Nevada: Clark | Unincorporated areas of Clark County (24-09-1045P). | Tick Segerblom, Chair, Clark County Board of Commissioners, 500 South Grand Central Parkway, Las Vegas, NV 89155. | Clark County Government Center, 500 South Grand Central Parkway, Las Vegas, NV 89155. | https://msc.fema.gov/portal/advanceSearch. | Sep. 2, 2025 | 320003
North Carolina: Durham | City of Durham (25-04-0232P). | The Honorable Leonardo Williams, Mayor, City of Durham, 101 City Hall Plaza, Durham, NC 27701. | City Hall, 101 City Hall Plaza, City Hall Plaza, Durham, NC 27701. | https://msc.fema.gov/portal/advanceSearch. | Sept. 26, 2025. | 370086.
South Carolina: Berkeley | Unincorporated areas of Berkeley County (23-04-6045P). | Johnny Cribb, Supervisor, Berkeley County Council, 1003 North Highway 52, Moncks Corner, SC 29461. | Berkeley County Building and Codes Enforcement, 1003 North Highway 52, Moncks Corner, SC 29461. | https://msc.fema.gov/portal/advanceSearch. | Sep. 11, 2025 | 450029
Texas:
Collin | Unincorporated areas of Collin County (25-06-0230P). | The Honorable Chris Hill, Collin County Judge, 2300 Bloomdale Road, 1st Floor, McKinney, TX 75071. | Collin County Engineering Building, 4690 Community Avenue, Suite 200, McKinney, TX 75071. | https://msc.fema.gov/portal/advanceSearch. | Sep. 2, 2025 | 480130
Hays | Unincorporated areas of Hays County (24-06-1529P). | The Honorable Ruben Becerra, Hays County Judge, 111 East San Antonio Street, Suite 300, San Marcos, TX 78666 | Hays County Development Services Department, 2171 Yarrington Road, Suite 100, Kyle, TX 78640. | https://msc.fema.gov/portal/advanceSearch. | Oct. 2, 2025 | 480321
Guadalupe | City of Seguin (24-06-1142P). | The Honorable Donna Dodgen, Mayor, City of Seguin, 205 North River Street, Seguin, TX 78155. | City Hall, 205 North River Street, Seguin, TX 78155. | https://msc.fema.gov/portal/advanceSearch. | Sep. 29, 2025 | 485508
Guadalupe | Unincorporated areas of Guadalupe County (24-06-1142P). | The Honorable Kyle Kutscher, Guadalupe County Judge, 101 East Court Street, Seguin, TX 78155. | Guadalupe County Courthouse, 101 East Court Street, Seguin, TX 78155. | https://msc.fema.gov/portal/advanceSearch. | Sep. 29, 2025 | 480266
Kendall | Unincorporated areas of Kendall County (24-06-0477P). | The Honorable Shane Stolarczy, Kendall County Judge, 201 East San Antonio Avenue, Suite 122, Boerne, TX 78006. | Kendall County Courthouse, 201 East San Antonio Avenue, Suite 101, Boerne, TX 78006. | https://msc.fema.gov/portal/advanceSearch. | Sep. 29, 2025 | 480417
Navarro | City of Corsicana (24-06-0096P). | The Honorable Mike Fletcher, Mayor, City of Corsicana, 200 North 12th Street, Corsicana, TX 75110. | City Hall, 200 North 12th Street, Corsicana, TX 75110. | https://msc.fema.gov/portal/advanceSearch. | Sep. 17, 2025 | 480498
Navarro | Unincorporated areas of Navarro County (24-06-0096P). | The Honorable H. M. Davenport, Jr., Navarro County Judge 300 West 3rd Avenue, Suite 102, Corsicana, TX 75110. | Navarro County Courthouse, 300 West 3rd Avenue, Corsicana, TX 75110. | https://msc.fema.gov/portal/advanceSearch. | Sep. 17, 2025 | 480950
Rockwall | City of Fate (24-06-1645P). | The Honorable David Billings, Mayor, City of Fate, 1900 C.D. Boren Parkway, Fate, TX 75087. | City Hall, 1900 C.D. Boren Parkway, Fate, TX 75087. | https://msc.fema.gov/portal/advanceSearch. | Oct. 10, 2025 | 480544
Utah: Washington | City of St. George (24-08-0300P). | The Honorable Michele Randall, Mayor, City of St. George, 175 East 200 North, St. George, UT 84770. | City Hall, 175 East 200 North, St. George, UT 84770. | https://msc.fema.gov/portal/advanceSearch. | Sep. 4, 2025 | 490177
Virginia: Independent City | City of Fairfax (24-03-0442P). | The Honorable Catherine S. Read, Mayor, City of Fairfax, 10455 Armstrong Street, Room 316, Fairfax, VA 22030. | Department of Public Works, 10455 Armstrong Street, Fairfax, VA 22030. | https://msc.fema.gov/portal/advanceSearch. | Sep. 26, 2025 | 515524

[FR Doc. 2025-13543 Filed 7-17-25; 8:45 am]

BILLING CODE 9110-12-P